DEPARTMENT OF COMMERCE

National Oceanic and Atmospheric Administration

RIN 0648-XC009

General Advisory Committee and Scientific Advisory Subcommittee to the U.S. Section to the Inter-American Tropical Tuna Commission; Meeting Announcement

AGENCY: National Marine Fisheries Service (NMFS), National Oceanic and Atmospheric Administration (NOAA), Commerce.

ACTION: Notice of public meeting.

SUMMARY: NMFS announces a meeting of the Scientific Advisory Subcommittee (SAS) on May 30, 2012, and a meeting of the General Advisory Committee (GAC) to the U.S. Section to the Inter-American Tropical Tuna Commission (IATTC) on May 31, 2012. Meeting topics are provided under the SUPPLEMENTARY INFORMATION section of this notice.

DATES: The meeting of the SAS will be held on May 30, 2012, from 9 a.m. to 5 p.m. PDT (or until business is concluded), and the meeting of the GAC will be held on May 31, 2012, from 9 a.m. to 5 p.m. PDT (or until business is concluded).

ADDRESSES: Both meetings will be held in the Conference Room 1 at Carlsbad Fish and Wildlife Service: 6010 Hidden Valley Road, Carlsbad, CA 92011. Please notify Heidi Taylor prior to May 18, 2012, of your plans to attend either meeting, or interest in a teleconference option.

FOR FURTHER INFORMATION CONTACT: Heidi Taylor, Southwest Region, NMFS at Heidi.Taylor@noaa.gov, or at (562) 980-4039.

SUPPLEMENTARY INFORMATION: In accordance with the Tuna Conventions Act, as amended, the Department of State has appointed a General Advisory Committee (GAC) and a Scientific Advisory Subcommittee (SAS) to the U.S. Section to the IATTC. The U.S. Section consists of four U.S. Commissioners to the IATTC and a representative of the Deputy Assistant Secretary of State for Oceans and Fisheries. The GAC and SAS support the U.S. Section to the IATTC in an advisory capacity; in particular, they provide advice on the development of U.S. policies, positions, and negotiating tactics. NOAA Fisheries Southwest Regional office administers the GAC and SAS in cooperation with the Department of State. The next annual meeting of the IATTC is scheduled for June 18-June 29, 2012, in La Jolla, CA. For more information on this meeting, please visit the IATTC's Web site: http://www.iattc.org/HomeENG.htm.

Meeting Topics

The SAS meeting topics will include, but are not limited to, the following: (1) Relevant stock status updates, including yellowfin, bigeye, skipjack, and albacore tunas; (2) updates on bycatch mitigation measures; (3) evaluation of the IATTC's recommended conservation measures, U.S. proposals, and proposals from other IATTC members; (4) AIDCP dolphin abundance surveys; (5) input to the GAC; and (6) other issues as they arise.

The GAC meeting topics will include, but are not limited to, the following: (1) Relevant stock status updates, including yellowfin, bigeye, skipjack, and albacore tunas; (2) U.S. regulatory changes that could affect tuna fisheries in the eastern Pacific Ocean; (3) updates on international agreements that could affect the IATTC; (4) the status of U.S legislation to implement the Antigua Convention; (5) outcomes of the IATTC Capacity Working Group meeting; (6) input from the SAS; (7) input and advice from the GAC on issues that may arise at the upcoming 2012 IATTC meetings, including the IATTC's recommended conservation measures, potential U.S. proposals, and potential proposals from other IATTC members; and (9) other issues as they arise.

Special Accommodations

The meeting location is physically accessible to people with disabilities. Requests for sign language interpretation or other auxiliary aids should be directed to Heidi Taylor at (562) 980-4039 by May 28, 2012.

Authority: 16 U.S.C. 1801 et seq.

Dated: May 1, 2012.
Emily H. Menashes,
Acting Director, Office of Sustainable Fisheries, National Marine Fisheries Service.

[FR Doc. 2012-10842 Filed 5-3-12; 8:45 am]

BILLING CODE 3510-22-P